DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: Flood Awareness, Attitude and Usage Study.

OMB Number: 1660-NEW7.

Abstract: The Flood Awareness, Attitude and Usage Survey is the evaluative tool of the NFIP's FloodSmart marketing campaign. The study assesses the overall impact of the campaign elements (i.e. advertising recall, media exposure, etc.) on property owners' perceptions of flood insurance. Data findings are combined with additional program data to measure the sale and retention of flood insurance policies in meeting the program's goal of a 5 percent net growth annually. Findings will be used primarily to plan for the subsequent 2005 campaign, and will be combined with additional program metrics for further performance evaluation.

Affected Public: Individuals or households.

Number of Respondents: 800 respondents.

Estimated Time per Respondent: 20 minutes.

Estimated Total Annual Burden Hours: 264 hours.

Frequency of Response: Once.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before May 2, 2005.

FOR FURTHER INFORMATION CONTACT: Requests for additional information or copies of the information collection should be made to Muriel B. Anderson, Section Chief, Records Management, FEMA at 500 C Street, SW., Room 316, Washington, DC 20472, facsimile number (202) 646-3347, or e-mail address FEMA-Information-Collections@dhs.gov.

Dated: March 18, 2005.
George S. Trotter,
Acting Branch Chief, Information Resources Management Branch, Information Technology Services Division.

[FR Doc. 05-6439 Filed 3-31-05; 8:45 am]

BILLING CODE 9110-13-P